ENVIRONMENTAL PROTECTION AGENCY

[FRL-8976-7]

Proposed CERCLA Administrative Cost Recovery Settlement: APCO Mossberg Company, Inc., Superfund Site, Attleboro, MA

AGENCY: Environmental Protection Agency.

ACTION: Notice of proposed settlement; request for public comment.

SUMMARY: In accordance with Section 122(i) of the Comprehensive Environmental Response, Compensation and Liability Act, as amended (“CERCLA”), 42 U.S.C. 9622(i), notice is hereby given of a proposed administrative settlement for recovery of past costs concerning the APCO Mossberg Company, Inc., Superfund Site in Attleboro, Massachusetts, with settling party Morton D. Cross. The settlement requires the settling party to pay $50,000, plus an additional sum for interest on that amount calculated from July 1, 2009 through the date of payment, to the Hazardous Substance Superfund. The settlement includes a covenant not to sue for the settling party pursuant to Sections 106 and 107(a) of CERCLA, 42 U.S.C. 9606 and 9607(a). For thirty (30) days following the date of publication of this notice, the Agency will receive written comments relating to the settlement. The Agency will consider all comments received relating to the settlement and may modify or withdraw its consent to the settlement if comments received disclose facts or considerations that the settlement is inappropriate, improper, or inadequate.

The Agency's response to any comments will be available for public inspection at One Congress Street, Boston, MA 02114-2023.

DATES: Comments must be submitted not later than December 3, 2009.

ADDRESSES: Comments should be addressed to, Mary Jane O'Donnell, Chief, ME/VT/CT Superfund Section, U.S. Environmental Protection Agency, One Congress Street, Suite 1100 (HBT), Boston, Massachusetts 02114-2023 and should refer to the APCO Mossberg Company, Inc., Superfund Site, U.S. EPA Docket Number CERCLA 01-2009-0085.

FOR FURTHER INFORMATION CONTACT: A copy of the proposed settlement may be obtained from Mary Jane O'Donnell, Chief, ME/VT/CT Superfund Section, U.S. Environmental Protection Agency, One Congress Street, Suite 1100 (HBT), Boston, Massachusetts 02114-2023 (Telephone No. 617-918-1371; e-mail odonnell.maryjane@epa.gov).

Dated: October 26, 2009.
James T. Owens, III,
Director, Office of Site Remediation and Restoration.

[FR Doc. E9-26416 Filed 11-2-09; 8:45 am]

BILLING CODE 6560-50-P